DEPARTMENT OF HEALTH AND HUMAN SERVICES

Meetings of the National Biodefense Science Board

AGENCY: Office of the Secretary, Department of Health and Human Services.

ACTION: Notice.

SUMMARY: As stipulated by the Federal Advisory Committee Act, the U.S. Department of Health and Human Services is hereby giving notice that the National Biodefense Science Board (NBSB) will be holding public meetings on April 2 and April 3, 2013.

DATES: The April 2, 2013, NBSB public meeting is tentatively scheduled from 9:00 a.m. to 5:00 p.m. The April 3, 2013, public meeting will be held jointly with the Centers for Disease Control and Prevention Board of Scientific Counselors (BSC), Office of Public Health Preparedness and Response (OPHPR), is tentatively scheduled from 8:30 a.m. to 3:30 p.m. The agendas for both April 2 and 3, 2013, meetings are subject to change as priorities dictate, and it is possible that they may be held by teleconference rather than in person. Please check the NBSB Web site at WWW.PHE.GOV/NBSB for the most up-to-date information.

ADDRESSES: April 2, 2013: Centers for Disease Control and Prevention (CDC), 1600 Clifton Road NE., Roybal Campus, Atlanta, Georgia 30329, Building 19, Room 117.

April 3, 2013: CDC, 1600 Clifton Road NE., Roybal Campus, Atlanta, Georgia 30329, Building 19, Room 256.

To attend by teleconference, please refer to the NBSB Web site for further instructions at www.phe.gov/nbsb. Please call in 15 minutes prior to the beginning of the meeting to facilitate attendance.

Additional Information for Public Participants: These meetings are open to the public and are limited only by the space available. Meeting rooms will accommodate up to 30 people. Pre-registration is required for in-person attendance. Individuals who wish to attend the meeting in-person should send an email to NBSB@HHS.GOV with “NBSB Registration” in the subject line by no later than Monday, March 25, 2013.

FOR FURTHER INFORMATION CONTACT: The National Biodefense Science Board mailbox: NBSB@HHS.GOV.

SUPPLEMENTARY INFORMATION: Pursuant to section 319M of the Public Health Service Act (42 U.S.C. 247d-7f) and section 222 of the Public Health Service Act (42 U.S.C. 217a), the Department of Health and Human Services established the National Biodefense Science Board.

The Board shall provide expert advice and guidance to the Secretary on scientific, technical, and other matters of special interest to the Department of Health and Human Services (HHS) regarding current and future chemical, biological, nuclear, and radiological agents, whether naturally occurring, accidental, or deliberate. The Board may also provide advice and guidance to the Secretary and/or the Assistant Secretary for Preparedness and Response (ASPR) on other matters related to public health emergency preparedness and response.

Background: The April 2, 2013, public meeting will be dedicated to a discussion and vote of the report and recommendations from the NBSB's Public Health and Healthcare Situational Awareness Strategy and Implementation Plan Working Group. Subsequent agenda topics will be added as priorities dictate. The April 3, 2013, meeting will include a joint Federal Advisory Committee briefing, deliberation and vote on the recommendations and report written by the joint BSC OPHPR-NBSB Strategic National Stockpile ad hoc working group. Any additional agenda topics will be available on the NBSB's April 2013 meeting Web page prior to the public meeting, available at WWW.PHE.GOV/NBSB.

Availability of Materials: The meeting agenda and materials will be posted on the NBSB Web site at WWW.PHE.GOV/NBSB prior to the meeting.

Procedures for Providing Public Input: Any member of the public providing oral comments at the meeting must sign-in at the registration desk and provide his/her name, address, and affiliation. All written comments must be received prior to March 29, 2013, and should be sent by email to NBSB@HHS.GOV with “NBSB Public Comment” as the subject line. Individuals who plan to attend and need special assistance, such as sign language interpretation or other reasonable accommodations, should email NBSB@HHS.GOV.

Dated: March 14, 2013.
Nicole Lurie,
Assistant Secretary for Preparedness and Response.

[FR Doc. 2013-06308 Filed 3-19-13; 8:45 am]

BILLING CODE 4150-37-P